DEPARTMENT OF HOMELAND SECURITY

U.S. Citizenship and Immigration Services

Agency Information Collection Activities: E-Verify Data Collection Survey, New Information Collection; Comment Request

ACTION: 60-Day Notice of Information Collection Under Review: E-Verify Data Collection Survey, Control No. OMB-55.

The Department of Homeland Security, U.S. Citizenship and Immigration Services (USCIS) has submitted the following information collection request for review and clearance in accordance with the Paperwork Reduction Act of 1995. The information collection is published to obtain comments from the public and affected agencies. Comments are encouraged and will be accepted for sixty days until March 8, 2010.

Written comments and suggestions regarding items contained in this notice, and especially with regard to the estimated public burden and associated response time should be directed to the Department of Homeland Security (DHS), USCIS, Chief, Regulatory Products Division, Clearance Office, 111 Massachusetts Avenue, NW., Washington, DC 20529-2210. Comments may also be submitted to DHS via facsimile to 202-272-8352, or via e-mail at rfs.regs@dhs.gov. When submitting comments by e-mail, please add the Control Number OMB-55 in the subject box.

Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: New information collection.

(2) Title of the Form/Collection: E-Verify Data Collection.

(3) Agency form number, if any, and the applicable component of the Department of Homeland Security sponsoring the collection: No form number. U.S. Citizenship and Immigration Services.

(4) Affected public who will be asked or required to respond, as well as a brief abstract: Primary: Individuals or households. USCIS will use this collection to evaluate how the E-Verify program is working nationally and among a specific group of employers, to determine whether employers are using the program as intended, and to evaluate positive and negative impacts of the program in a mandatory environment.

(5) An estimate of the total number of respondents and the amount of time estimated for an average respondent to respond: Web survey 2,400 respondents at 30 minutes (.50) per response. Telephone interviews with Designated Agents 20 respondents x 1 hour per response. Telephone interviews with Designated Agents Users 60 respondents x 1 hour per response.

(6) An estimate of the total public burden (in hours) associated with the collection: 1,280 annual burden hours.

If you need a copy of the proposed information collection instrument, or need additional information, please visit: http://www.regulations.gov/search/index.jsp.

We may also be contacted at: USCIS, Regulatory Products Division, 111 Massachusetts Avenue, Washington, DC 20529-2210, (202) 272-8377.

Dated: December 31, 2009.
Stephen Tarragon,
Deputy Chief, Regulatory Products Division, U.S. Citizenship and Immigration Services, Department of Homeland Security.

[FR Doc. E9-31423 Filed 1-5-10; 8:45 am]

BILLING CODE 9111-97-P